DEPARTMENT OF ENERGY

Federal Energy Regulatory Commission

18 CFR Part 35

[Docket No. RM01-12-000]

Remedying Undue Discrimination Through Open Access Transmission Service and Standard Electricity Market Design

September 10, 2002.

AGENCY: Federal Energy Regulatory Commission, DOE.

ACTION: Notice revising public comment schedule and announcing technical conferences.

SUMMARY: On July 31, 2002, the Commission issued a Notice of Proposed Rulemaking (NOPR) in the above-captioned docket, proposing to amend its regulations to remedy undue discrimination through open access transmission service and standard electricity market design, (67 FR 55452, August 29, 2002). The Commission is extending the time for parties to file comments on the proposed rule, providing parties an opportunity to file reply comments and convening a series of technical conferences to address several specific issues identified in the NOPR.

DATES: Comments should be filed on or before November 15, 2002.

Reply comments should be filed on or before December 20, 2002.

A series of conferences will be convened on: October 2, 2002, October 3, 2002 and December 11, 2002.

ADDRESSES: Send comments to: Office of the Secretary, Federal Energy Regulatory Commission, 888 First Street, NE., Washington, DC 20426.

FOR FURTHER INFORMATION CONTACT: David Withnell (Legal Information), Office of General Counsel, Federal Energy Regulatory Commission, 888 First Street, NE., Washington, DC 20426, (202) 502-8287.

SUPPLEMENTARY INFORMATION:

Notice Revising Public Comment Schedule and Announcing Technical Conferences

In the six weeks since the Commission issued its Notice of Proposed Rulemaking (NOPR) in the above-captioned docket, Commission members and staff have participated in numerous meetings and conferences throughout the country to discuss the proposed rule. These meetings have been a valuable source of information about the response of the general public, and specifically the electric utility industry, to the proposed Standard Market Design rule and the issues that the Commission must address going forward.

1. Various entities have asserted that the 75-day comment period provided in the NOPR does not allow enough time for the public to review the NOPR and provide the detailed comments that the Commission requested therein. Several parties also have expressed their wish to provide reply comments in order to develop an on-the-record dialogue about the NOPR's proposals.

2. We will grant an extension of time to permit all interested parties to file comments on the NOPR by November 15, 2002. In addition, we will allow all interested parties to file reply comments on or before December 20, 2002. All comments should include an executive summary that should not exceed ten pages.

3. In addition, Commission staff will convene a series of technical conferences this fall to address several specific issues identified in the NOPR. The Commission also will reserve a week in January 2003 for any further technical conferences necessary to explore remaining areas of concern identified during our continued outreach and through the comment process.

4. The fall conference schedule will be as follows:

• October 2, 2002: Essential elements of a standard market monitoring plan. Please refer to the Notice issued in this docket on August 28, 2002 for further details.

• October 3, 2002: Standard software to support electric grid and market operations under Standard Market Design. Please refer to the Notice issued in this docket on August 22, 2002 for further details.

• December 11, 2002: This conference will address liability and indemnification provisions in the Standard Market Design Tariff, as specified in paragraph 389 of the NOPR.

5. Each conference will be held from approximately 9:30 a.m. to 5 p.m., at the offices of the Federal Energy Regulatory Commission, 888 First Street, NE., Washington, DC. The conferences are open to the public, and registration is not required. Members of the Commission may attend and participate in the discussions. Further details about each conference will be provided in supplemental notices.

2. Transcripts of the conference will be immediately available from Ace Reporting Company (202-347-3700 or 1-800-336-6646), for a fee. They will be available for the public on the Commission's FERRIS system two weeks after the conference. Additionally, Capitol Connection offers the opportunity for remote listening and viewing of the conference. It is available for a fee, live over the Internet, via C-Band Satellite. Persons interested in receiving the broadcast, or who need information on making arrangements should contact David Reininger or Julia Morelli at the Capitol Connection (703-993-3100) as soon as possible or visit the Capitol Connection website at http://www.capitolconnection.gmu.edu and click on “FERC.”

By direction of the Commission.
Magalie R. Saler,
Secretary.

[FR Doc. 02-23694 Filed 9-17-02; 8:45 am]

BILLING CODE 6717-01-P